DEPARTMENT OF STATE

[Delegation of Authority No. 315]

Delegation by the Deputy Secretary of State to the Under Secretary of State for Democracy and Global Affairs To Convene an Interagency Committee on Climate Change

By virtue of the authority vested in me by Section 1 of the State Department Basic Authorities Act, as amended (22 U.S.C. 2651a), I hereby delegate to the Under Secretary of State for Democracy and Global Affairs, to the extent authorized by law, the authority to convene an interagency meeting on climate change consistent with Section 684(b) of the Consolidated Appropriations Act, FY 2008 (Pub. L. 110-161).

Any act, executive order, regulation or procedure subject to, or affected by, this delegation shall be deemed to be such act, executive order, regulation or procedure as amended from time to time.

Notwithstanding this delegation of authority, the Secretary or the Deputy Secretary may at any time exercise any authority or function delegated by this delegation of authority.

This delegation of authority shall be published in the Federal Register.

Dated: August 7, 2008.
John Negroponte,
Deputy Secretary of State, Department of State.

[FR Doc. E8-19294 Filed 8-19-08; 8:45 am]

BILLING CODE 4710-10-P